DEPARTMENT OF COMMERCE

National Oceanic and Atmospheric Administration

RIN 0648-XQ65

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Coral Advisory Panel in North Charleston, SC. See SUPPLEMENTARY INFORMATION.

DATES: The meeting will take place September 1-2, 2009. See SUPPLEMENTARY INFORMATION.

ADDRESSES: The meeting will be held at the Hilton Garden Inn, 5265 International Boulevard, North Charleston, SC; telephone: (843) 308-9330.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; email: kim.iverson@safmc.net.

SUPPLEMENTARY INFORMATION: Members of the Coral Advisory Panel will meet from 8:30 a.m. until 5 p.m. on September 1, 2009, and from 8:30 a.m. until 12 noon on September 2, 2009.

The Advisory Panel will receive updates from Council staff regarding the status of Comprehensive Ecosystem-based Amendment 1 establishing Deepwater Coral Habitat Areas of Particular Concern (CHAPCs) and an overview of the draft Comprehensive Ecosystem-based Amendment 2 currently under development. The AP will develop recommendations to the Council for the development of Acceptable Biological Catch (ABC), Overfishing Level (OFL), Annual Catch Limit (ACL), and Accountability Measures (AMs) for South Atlantic octocorals, as well as recommendations for new Essential Fish Habitat (EFH) and Habitat Areas of Particular Concern (HAPCs) proposed in Comprehensive Ecosystem-based Amendment 2, and management alternatives that address impacts to Acroporids from the spiny lobster fishery.

AP members will receive an update on outreach activities associated with the Oculina Bank HAPC and Experimental Closed Area, and a summary of information needs for Florida presented at the Atlantic/Caribbean Coral Reef Integrated Observing System (CREIOS) Workshop. The AP will also be briefed on the outcomes of the NOAA Deep Sea Coral Priorities Workshop that took place in July 2009.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Dated: July 29, 2009.
Tracey L. Thompson,
Acting Director, Office of Sustainable Fisheries, National Marine Fisheries Service.

[FR Doc. E9-18505 Filed 8-3-09; 8:45 am]

BILLING CODE 3510-22-S